DEPARTMENT OF HEALTH AND HUMAN SERVICES

Office of the Secretary

48 CFR Part 352

Acquisition Regulations

CFR Correction

In Title 48 of the Code of Federal Regulations, Chapters 3 to 5, revised as of October 1, 2008, on page 81, in 352.270-1, in the clause, reinstate paragraph (c)(4) to read as follows:

352.270-1 Accessibility of meetings, conferences, and seminars to persons with disabilities.

* * * * *

(c) * * *

(4) The Contractor is responsible for making a reasonable effort to ascertain the number of individuals with sensory impairments who plan to attend the meeting, conference, or seminar. However, if it can be determined that there will be no person with sensory impairment in attendance, the provision of those services under paragraph (c) of this clause for the nonrepresented group, or groups, is not required.

* * * * *

[FR Doc. E9-22255 Filed 9-14-09; 8:45 am]

BILLING CODE 1505-01-D